ENVIRONMENTAL PROTECTION AGENCY

[FRL-9217-5]

Proposed Reissuance of General NPDES Permits (GP) for Alaskan Medium-Size Suction Dredging (Permit Number AKG-37-1000)

AGENCY: Environmental Protection Agency, Region 10.

ACTION: Proposed reissuance of a general permit.

SUMMARY: On October 7, 2010, the general permit regulating the activities of suction dredge gold placer mining operations in the State of Alaska expired. EPA proposes to reissue this general permit with no changes. On October 31, 2008, EPA approved the application submitted by the State of Alaska to administer the NPDES Program. Under the State program, the Alaska Department of Environmental Conservation (ADEC) will be phasing in the program over a three year period with permit authority for different categories of discharges being transferred to the State on specific dates. Under this phased approach, authority to issue permits to the mining sector will transfer to Alaska on October 31, 2010. According to the Memorandum of Agreement between EPA and ADEC, EPA will complete work on any project where substantial work has been initiated prior to the transfer dates, however, the State would issue any final permit after the transfer date. Due to the timing of the public notice of this permit, the final permit will be issued by the State of Alaska.

DATES: Interested persons may submit comments on the proposed reissuance of the GP to EPA, Region 10 at the address below. Comments must be postmarked by December 9, 2010.

ADDRESSES: Comments on the proposed GP reissuance should be sent to the attention of the Director, Office of Water & Watersheds, EPA—Region 10, 1200 Sixth Avenue, Suite 900, OWW-130, Seattle, WA 98101. Comments may also be submitted electronically to godsey.cindi@epa.gov.

FOR FURTHER INFORMATION CONTACT: Copies of the proposed GP, Fact Sheet and other documents from the Administrative Record are available upon request. Requests may be made to Audrey Washington at (206) 553-0523 or washington.audrey@epa.gov or to Cindi Godsey at (907) 271-6561 or godsey.cindi@epa.gov.

The draft GP and fact sheet may also be found on the EPA Region 10 Web site at http://yosemite.epa.gov/R10/water.nsf/NPDES+Permits/Permits+Homepage then click on “Current public comment opportunities.”

SUPPLEMENTARY INFORMATION: Executive Order 12866: The Office of Management and Budget has exempted this action from the review requirements of Executive Order 12866 pursuant to Section 6 of that order.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that this GP, as reissued, will not have a significant economic impact on a substantial number of small entities.

Dated: October 17, 2010.
Michael A. Bussell,
Director, Office of Water & Watersheds, Region 10, U.S. Environmental Protection Agency.

[FR Doc. 2010-26873 Filed 10-22-10; 8:45 am]

BILLING CODE 6560-50-P